DEPARTMENT OF THE INTERIOR

Bureau of Land Management

[WY-920-1430-ET; WYW 162499]

Notice of Proposed Withdrawal and Opportunity for Public Meeting; Wyoming

AGENCY: Bureau of Land Management, Interior.

ACTION: Notice.

SUMMARY: The U.S. Department of Agriculture has filed an application requesting the Secretary of the Interior to withdraw from mining 1278.09 acres of National Forest System lands for 20 years to protect the unique natural, archaeological, and historical values in the Inyan Kara area of the Black Hills National Forest. This notice segregates the lands from location and entry under the United States mining laws for up to 2 years. The land will remain open to mineral leasing and to all other forms of disposition which may by law be made of National Forest System lands.

DATES: Comments and requests for a public meeting should be received on or before March 13, 2006.

ADDRESSES: Comments and meeting requests should be sent to the State Director, Wyoming State Office, Bureau of Land Management (BLM), P.O. Box 1828, Cheyenne, Wyoming 82003.

FOR FURTHER INFORMATION CONTACT: Janet Booth, BLM Wyoming State Office, 307-775-6124.

SUPPLEMENTARY INFORMATION: The U.S. Department of Agriculture, acting through the Forest Service, filed an application with the Bureau of Land Management to withdraw the following described National Forest System lands from location and entry under the United States mining laws, subject to valid existing rights:

Black Hills National Forest, Sixth Principal Meridian

T. 49 N., R. 62 W., sec. 19, lots 1 to 4, inclusive, E½, and E½W½; sec. 30, lots 1 and 2, E½NW¼, and N½NE¼.

T. 49 N., R. 63 W., sec. 24, E½E½; sec. 25, NE¼, and N½SE¼.

The area described contains 1278.09 acres, more or less, in Crook County, Wyoming.

The purpose of this proposed withdrawal is to protect an important natural, historical and cultural resource. As proposed, the withdrawal would be for a period of 20 years.

The use of a right-of-way or cooperative agreement instead of a withdrawal would not provide adequate protection for this area. Because of the broad scope and nondiscretionary nature of the general mining laws, the area would remain open and vulnerable to prospecting, location, and mining.

There are no alternative sites since the lands described contain the resources that need protection.

Water will not be needed to fulfill the purpose of the requested withdrawal.

For a period of 90 days from the date of publication of this notice, all persons who wish to submit comments, suggestions, or objections in connection with this proposed withdrawal may present their views in writing to the Wyoming State Director of the Bureau of Land Management.

Comments, including names and street addresses of respondents, will be available for public review at the BLM Wyoming State Office, 5353 Yellowstone Road, Cheyenne, Wyoming, during regular business hours.

Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to the Wyoming State Director within 90 days from the date of publication of this notice. Upon determination by the authorized officer that a public meeting will be held, a notice of time and place will be published in the Federal Register at least 30 days before the scheduled date of the meeting.

The application will be processed in accordance with the regulations set forth in 43 CFR Part 2300.

For a period of 2 years from the date of publication of this notice in the Federal Register, the lands will be segregated from location and entry under the United States mining laws as specified above unless the application is denied or cancelled or the withdrawal is approved prior to that date. During this period, the Forest Service will continue to permit uses within the statutory authorities pertinent to National Forest System lands and subject to discretionary approval.

Authority: 43 CFR 2310.3

Michael Madrid,
Chief, Branch of Fluid Mineral Operations, Lands and Appraisal.

[FR Doc. E5-7240 Filed 12-12-05; 8:45 am]

BILLING CODE 4310-22-P